ENVIRONMENTAL PROTECTION AGENCY

[ER-FRL-6633-1]

Environmental Impact Statements; Notice of Availability

Responsible Agency: Office of Federal Activities, General Information (202) 564-7167 or http://www.epa/gov/compliance/nepa/.

Weekly receipt of Environmental Impact Statements

Filed September 2, 2002 through September 6, 2002

Pursuant to 40 CFR 1506.9.

EIS No. 020378, Draft EIS, FAA, NJ, Atlantic City International Airport, Proposal to Improve Air Service, Economic Development, Enhance Efficiency and Safety, Airport Layout Plan Approval, Atlantic County, NJ, Comment Period Ends: October 28, 2002, Contact: Daisey Mather (718) 553-2511.

EIS No. 020379, Final EIS, FHW, CA, CA-120 Oakdale Expressway Project, Construction and Operation, Post Mile 3.0 to Post Mile R12.9 near Oakdale, Funding, Section 404 Permit, NPDES Permit, Stanislaus County, CA, Wait Period Ends: October 15, 2002, Contact: Brian Zewe (916) 498-5348.

EIS No. 020380, Final EIS, FHW, LA, I-49 Connector, Construction from Evangeline Thruway US-90 and US-197 in Urbanized Lafayette, Funding, COE Section 10 and 404 Permits, Parish of Lafayette, LA, Wait Period Ends: October 15, 2002, Contact: William Farr (225) 757-7615.

EIS No. 020381, Final EIS, BIA, CA, Teayawa Energy Center, Construction and Operation of a 600 megawatt (MW)(nominal output), Natural-Gas-Fired, Combined-Cycle Energy Center, On Indian Trust Land, Torres Martinez Desert Cahuilla Indians Tribe, Coachella Valley, Riverside County, CA, Wait Period Ends: October 15, 2002, Contact: William Allan (916) 978-6043.

EIS No. 020382, Final EIS, NRS, OK, Rehabilitation of Aging Flood Control Dams in Oklahoma, Authorization and Funding, OK, Wait Period Ends: October 15, 2002, Contact: M. Darrel Dominick (406) 742-1227.

EIS No. 020383, Final EIS, AFS, WI, MI, Adoption—Bond Falls Hydroelectric Project, New License Issuance for an Existing Hydroelectric License (FERC No. 1864-005), Ontonagon River Basin, Ontonagon and Gogebic Counties, MI and Vilas County, WI, Wait Period Ends: October 28, 2002, Contact: Karen Stevens (Ext. 345) (906) 932-1330. U.S. Department of Agriculture's, Forest Service has adopted U.S. Federal Energy Regulatory Commission's FEIS #020280, filed with U.S. Environmental Protection Agency on on 6/27/2002, Forest Service was not a cooperating agency on the above project, recirculation of the above project is necessary under Section 1506.3(b) of the CEQ Regulations.

EIS No. 020384, Draft Supplement, AFS, WI, MI, Bond Falls Hydroelectric Project Related to Term and Conditions for Geology and Soils, Water Quality and Quantity, Fisheries, Terrestrial, Recreation, Aesthetic, Cultural, Socioeconomic and Land Use Resources, Ontonagon River Basin, Valas County, WI and Ontonagon and Gogebic Counties, MI, Comment Period Ends: October 28, 2002, Contact: Karen Stevens (Ext. 345) (906) 932-1330.

Amended Notices

EIS No. 020375, Draft EIS, FHW, IN, IN-25, Transportation Corridor, Improvements from Interstate 65 Interchange to U.S. 24, Funding, Right-Of-Way and COE Section 404 Permits, Hoosier Heartland Highway, Tippecanoe, Carroll and Cass Counties, IN, Comment Period Ends: November 1, 2002, Contact: Robert Dirks (317) 226-7492. Revision of FR Notice Published on 9/6/2002: Contact Person's Phone Number Corrected from 317-226-7341 to 317-226-7492.

Dated: September 9, 2002.
B. Katherine Biggs,
Associate Director, NEPA Compliance Division, Office of Federal Activities.

[FR Doc. 02-23369 Filed 9-12-02; 8:45 am]

BILLING CODE 6560-50-P